DEPARTMENT OF COMMERCE

International Trade Administration

[A-533-838]

Carbazole Violet Pigment 23 From India: Rescission of Antidumping Duty Administrative Review; 2018-2019

AGENCY: Enforcement and Compliance, International Trade Administration, Department of Commerce.

SUMMARY: The Department of Commerce (Commerce) is rescinding the administrative review of the antidumping duty order on carbazole violet pigment 23 (CVP 23) from India for the period December 1, 2018 through November 30, 2019.

DATES: Applicable March 19, 2020.

FOR FURTHER INFORMATION CONTACT: George Ayache, AD/CVD Operations, Office VIII, Enforcement and Compliance, International Trade Administration, U.S. Department of Commerce, 1401 Constitution Avenue NW, Washington, DC 20230; telephone: (202) 482-2623.

SUPPLEMENTARY INFORMATION:

Background

On December 6, 2019, Commerce published a notice of opportunity to request an administrative review of the antidumping duty order on CVP 23 from India for the period of review (POR) December 1, 2018 through November 30, 2019.¹

¹ See Antidumping or Countervailing Duty Order, Finding, or Suspended Investigation; Opportunity to Request Administrative Review, 84 FR 66880 (December 6, 2019).

On December 31, 2019, Pidilite Industries Limited (Pidilite), an Indian producer and exporter of CVP 23, requested an administrative review of the order of CVP 23 from India with respect to its entries of subject merchandise during the POR.² No other party requested an administrative review of this order. On February 6, 2020, in accordance with section 751(a) of the Tariff Act of 1930, as amended (the Act) and 19 CFR 351.221(c)(1)(i), we published the notice of initiation of an administrative review of the order on CVP 23 from India with respect to Pidilite.³ On March 3, 2020, Pidilite withdrew its request for an administrative review.⁴

² See Pidilite's Letter, “Carbazole Violet Pigment 23 from India—Request for Administrative Review,” dated December 31, 2019.

³ See Initiation of Antidumping and Countervailing Duty Administrative Reviews, 85 FR 6896 (February 6, 2020).

⁴ See Pidilite's Letter, “Carbazole Violet Pigment 23 from India—Withdrawal of Request for Administrative Review and Request for Rescission,” dated March 3, 2020.

Rescission of Review

Pursuant to 19 CFR 351.213(d)(1), Commerce will rescind an administrative review, in whole or in part, if the party that requested the review withdraws its request within 90 days of the date of publication of the notice of initiation of the requested review. In this case, Pidilite timely withdrew its request by the 90-day deadline, and no other party requested an administrative review of the antidumping duty order. Therefore, we are rescinding the administrative review of the antidumping duty order on CVP 23 from India for the period December 1, 2018 through November 30, 2019, in its entirety, in accordance with 19 CFR 351.213(d)(1).

Assessment

Commerce intends to instruct U.S. Customs and Border Protection (CBP) to assess antidumping duties on all appropriate entries of CVP 23 from India during the POR at rates equal to the cash deposit of estimated antidumping duties required at the time of entry, or withdrawal from warehouse, for consumption, in accordance with 19 CFR 351.212(c)(1)(i). Commerce intends to issue appropriate assessment instructions to CBP 15 days after the date of publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a violation which is subject to sanction.

We intend to issue and publish this notice in accordance with sections 751(a)(1) and 777(i)(1) of the Act, and 19 CFR 351.213(d)(4).

Dated: March 16, 2020.
James Maeder,
Deputy Assistant Secretary for Antidumping and Countervailing Duty Operations.

[FR Doc. 2020-05756 Filed 3-18-20; 8:45 am]

BILLING CODE 3510-DS-P